DEPARTMENT OF TRANSPORTATION

Surface Transportation Board

[Docket No. FD 35761]

Ferroequus Railway Company Limited and Railstuff, LLC—Lease and Operation Exemption—City of Tacoma, d/b/a Tacoma Rail Mountain Division

Ferroequus Railway Company Limited, a noncarrier, and railstuff, LLC, a noncarrier (collectively, applicants), have filed a verified notice of exemption under 49 CFR 1150.31 to lease from the City of Tacoma, d/b/a Tacoma Rail Mountain Division (TRMD), and to operate, pursuant to a lease agreement dated August 5, 2013, an approximately 0.5-mile line of railroad between milepost 67.3 and the end of the track at Morton, in Lewis County, Wash.

According to applicants, the lease does not contain any provision that prohibits or restricts any interchange of traffic with any carrier. Applicants state that the line connects with a TRMD line over which TMRD provides common carrier service between Morton and Tacoma, Wash.

The parties intend to consummate the proposed transaction immediately after October 6, 2013, the effective date of this exemption (30 days after the exemption was filed).

Applicants certify that their projected annual revenues as a result of this transaction will not result in their becoming Class I or Class II rail carriers and will not exceed $5 million.

If the verified notice contains false or misleading information, the exemption is void ab initio. Petitions to revoke the exemption under 49 U.S.C. 10502(d) may be filed at any time. The filing of a petition to revoke will not automatically stay the effectiveness of the exemption. Petitions to stay must be filed by September 27, 2013 (at least seven days prior to the date the exemption becomes effective).

An original and ten copies of all pleadings, referring to Docket No. FD 35761, must be filed with the Surface Transportation Board, 395 E Street SW., Washington, DC 20423-0001. In addition, a copy of each pleading must be served on applicants' representative, Thomas Payne, 410 Garfield Street, Tacoma, WA 98444.

Board decisions and notices are available on our Web site at “www.stb.dot.gov.”

Decided: September 17, 2013.
By the Board, Rachel D. Campbell, Director, Office of Proceedings.
Jeffrey Herzig,
Clearance Clerk.

[FR Doc. 2013-22889 Filed 9-19-13; 8:45 am]

BILLING CODE 4915-01-P